DEPARTMENT OF COMMERCE

International Trade Administration

The President's Export Council: Meeting of the President's Export Council

AGENCY: International Trade Administration, U.S. Department of Commerce.

ACTION: Notice of an open meeting via teleconference.

SUMMARY: The President's Export Council will hold a meeting via teleconference to deliberate a draft recommendation to the President regarding the Dubai Ports issue.

DATES: June 26, 2006.

Time: 10 a.m. (EDST).

For the Conference Call-In Number and Further Information, Contact: The President's Export Council Executive Secretariat, Room 4043, Washington, DC, 20230 (Phone: 202-482-1124), or visit the PEC Web site, http://www.ita.doc.gov/td/pec.

Dated: May 25, 2006.
J. Marc Chittum,
Staff Director and Executive Secretary, President's Export Council.

[FR Doc. 06-4995 Filed 5-25-06; 4:09 pm]

BILLING CODE 3510-DR-P